GENERAL SERVICES ADMINISTRATION

41 CFR Parts 302-4 and 302-9

[FTR Case 2022-03; Docket No. GSA-FTR-2022-0013, Sequence No. 2]

RIN 3090-AK64

Federal Travel Regulation; Alternative Fuel Vehicle Usage During Relocations

AGENCY: Office of Government-wide Policy (OGP), General Services Administration (GSA).

ACTION: Final rule.

SUMMARY: GSA is issuing a final rule amending the Federal Travel Regulation to allow agencies greater flexibility for authorizing shipment of a relocating employee's alternative fueled privately-owned vehicle or extending driving times of these types of vehicles if necessary.

DATES: Effective April 25, 2024.

FOR FURTHER INFORMATION CONTACT: Mr. Ed Davis, Program Analyst, Office of Government-wide Policy, at (202)669-1653 or travelpolicy@gsa.gov. For information pertaining to status or publication schedules, contact the Regulatory Secretariat Division at (202) 501-4755 or GSARegSec@gsa.gov. Please cite “FTR Case 2022-03.”

SUPPLEMENTARY INFORMATION:

I. Background

GSA published a proposed rule at 88 FR 15635 on March 14, 2023 proposing to amend the Federal Travel Regulation (FTR) to allow agencies greater flexibility for authorizing shipment of a relocating employee's alternative fueled privately-owned vehicle. The analysis of comments on the proposed rule did not require any regulatory changes to the final rule.

Consistent with the guidance of E.O. 14057, Executive Order on Catalyzing Clean Energy Industries and Jobs Through Federal Sustainability, GSA is amending the FTR to apply these changes to privately-owned vehicles (POV) that use alternative fuel, such as electric batteries or hydrogen fuel cells. Currently, an alternative fueled POV may disadvantage Federal employees when relocating to a new duty station due to the limited driving range of many of these vehicles.

GSA designed current relocation regulations for internal combustion engine (ICE) POVs, which are easily capable of averaging a distance of 300 miles per calendar day during en route travel, which is the distance requirement currently in place in the FTR when a POV is used for permanent change of station travel.

Even if an alternative fuel vehicle (AFV) is capable of traveling 300 miles per day under ideal conditions, it could take longer than a day or require a circuitous route and a greater amount of time to reach that distance depending on fueling availability along the route to the new permanent duty station.

While an agency's determination of whether to authorize shipment of an employee's internal combustion engine (ICE) POV is straightforward, the determination for AFVs is not so clear. Currently, an employee must be relocating 600 miles or more for an agency to consider shipping their POV (and then, the employee would use the agency's chosen transportation method to reach their destination). Agency considerations for authorization of POV transportation within the continental U.S. (CONUS) largely weigh cost considerations and do not account for the employee's ability to expediently drive their AFV POV to the new permanent duty station if shipment is not authorized.

Many factors need consideration before the agency decides whether to ship a relocating employee's AFV POV or authorize another method of transportation. Agencies should consider the types of fueling stations available and where the fueling stations are located before deciding whether to authorize POV shipment. Information can be found at the Department of Energy Alternative Fuels Center (available at https://afdc.energy.gov). For example, with electric vehicles, if lower level (slower) charging stations are all that are available en route to a relocation destination, extra time and per diem may need to be authorized for the employee to drive their POV to the new official station (if determined to be advantageous to the Government). Further, agencies would need to consider whether to authorize a different route as officially necessary for the POV to recharge. Currently, hydrogen-powered vehicles are mainly driven in California where the large majority of this type of fueling station exist; limited fueling stations exist outside of the state. Moreover, electric cars have various ranges that they can travel after charging, and ranges could be reduced if the car is traveling at highway speeds or in cold weather, among other factors.

In short, this means that agency determination of whether to ship a relocating employee's POV involves more factors for AFVs than for ICE vehicles. These changes will provide agencies with additional factors to help determine whether or not shipping an employee's alternative fuel POV is more cost-effective and advantageous to the Government than authorizing the employee to drive their POV to the new official station.

The costs of these changes will be minimal because currently only a small percentage of POVs require alternative fuel (estimated costs do not include hybrid vehicles as they do not “require” alternative fuel to operate). Although a small but increasing percentage of current relocations involve AFVs and the range capabilities and infrastructure for refueling these vehicles is improving, the rate of future range improvements in AFVs is unknown.

II. Discussion of the Final Rule

GSA received four comments through the public comment process.

1. One anonymous commenter expressed concern that the rule would result in increased POV shipments, which would lead to increased rental car use, and suggested that agencies “give extra travel days to employees . . . [r]ather than mandating the shipping of alternative fuel vehicles.” In response, GSA notes that this rule applies to POV shipments within CONUS, and unless the POV is shipped to/from outside the Continental U.S. (OCONUS,) the FTR does not authorize reimbursement of rental car fees (see FTR 302-16.2; 302-6.18). GSA agrees that agencies could allow for extra travel days rather than AFV shipment, which is why the rule defers to agencies to decide what course of action is more cost-effective and advantageous to the Government.

2. One commenter wanted GSA to withdraw the proposed rule because it would make the FTR more complex and would result in taxpayers paying for another person's transportation choice. GSA uses plain language and question and answer format to make the FTR simpler to read and understand. The commenter's observation regarding taxation is not within the scope of this final rule and is therefore not addressed.

3. Another commenter agreed with the rule's intent, but suggested several changes for GSA to consider: (1) define “legitimate range capabilities” based on range capability data of AFVs currently on the market, (2) place examples of exceptions to the minimum daily driving distance at 302-4.401 in a list or sentence format rather than a parenthetical to avoid equivalency comparisons between the exceptions, and (3) require the use of alternative fuel heavy-duty trucks to carry any AFV that is transported. In response, GSA notes that: (1) Creating the list of AFVs and their ranges would be difficult because the market is always changing with new models being added, existing models being improved, and older models being removed. (2) The examples at 302-4.401 are not listed in any particular order to imply the importance of one exception over another. (3) GSA has no authority to require transport of AFVs by alternative fueled heavy-duty trucks.

4. The Zero Emission Transportation Association (ZETA) commented in support of the proposed rule but suggested that GSA develop clear guidance “on what types of range and charging availability restrictions constitute `legitimate' limitations”. As GSA noted in response to the previous comment, it is impractical to do so given the pace of market change.

III. Executive Orders 12866, 13563 and 14094

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits of reducing costs, harmonizing rules, and promoting flexibility. E.O. 14094 (Modernizing Regulatory Review) amends and reaffirms the principles, structures, and definitions governing contemporary regulatory review established in E.O. 12866 and E.O. 13563. The Office of Management and Budget's Office of Information and Regulatory Affairs (OIRA) has determined that this rule is a significant regulatory action under E.O. 12866 and, therefore, is subject to review under Section 6(b) of E.O. 12866, Regulatory Planning and Review, dated September 30, 1993.

IV. Congressional Review Act

This action is excepted from Congressional Review Act reporting requirements prescribed under 5 U.S.C. 801 since it relates to agency management or personnel and is therefore not a “rule” as defined by the Congressional Review Act. 5 U.S.C. 804(3)(B).

V. Regulatory Flexibility Act

GSA does not expect this final rule to have a significant economic impact on a substantial number of small entities within the meaning of the Regulatory Flexibility Act, 5 U.S.C. 601, et seq., because it applies only to Federal agencies and employees. Therefore, a Final Regulatory Flexibility Analysis was not performed.

VI. Regulatory Impact Analysis

This is a significant regulatory action under E.O. 12866. There are an average of 31,423 domestic and international relocations per year across the Federal Government.¹ However, this data does not differentiate between relocations within CONUS and OCONUS. This rule only impacts relocations within CONUS. In order to estimate the number of relocations within CONUS, GSA subtracted the number of extended storage relocations because those reflect when federal employees are relocated OCONUS. GSA calculated an average of 8,561 relocations OCONUS per year across the Federal Government. Therefore, GSA calculated a yearly average of 22,862 (= 31,423−8,561) relocations within CONUS.

¹ Business Travel and Relocation Dashboard: https://d2d.gsa.gov/report/business-travel-and-relocation-dashboard.

GSA notes that federal agencies are not required to track relocation data regarding types of POVs. The estimates used for this economic analysis are based upon a small number of federal agency inputs and overall U.S. population trends in alternative fuel POVs. GSA received an estimate of three percent alternative fuel POVs from across the Federal agencies.

GSA estimates that 3 percent (685) of the average of 22,682 domestic relocations include alternative fuel POVs (22,682 × .03 = 685) at an additional cost of $150 per vehicle for the first year. Therefore, GSA calculated the total estimated annual cost for the first year to be $102,750 (= 685 vehicles × $150 per vehicle).

GSA received an estimated increase of one percent every year for alternative fuel POVs based on a small number of federal agency inputs and overall U.S. population trends in AFV ownership. A breakdown of total estimated Government cost by year is provided in the table below.

Year | Annual number of AFV moves | Additional estimated cost per move | Total annual added cost
1 | 685 (3 percent of Annual Moves) | $150 | $102,750.
2 | 692 (Assuming 1.01 percent increase) | 150 | 103,800.
3 | 699(Assuming 1.01 percent increase) | 150 | 104,850.
4 | 706 (Assuming 1.01 percent increase) | 150 | 105,900.
5 | 713(Assuming 1.01 percent increase) | 150 | 106,950.
6 | 720 (Assuming 1.01 percent increase) | 150 | 108,000.
7 | 727(Assuming 1.01 percent increase) | 150 | 109,050.
8 | 734 (Assuming 1.01 percent increase) | 150 | 110,100.
9 | 741(Assuming 1.01 percent increase) | 150 | 111,150.
10 | 748 (Assuming 1.01 percent increase) | 150 | 112,200.
1 through 10 Totals | 7,165 Total Moves | 150 | 1,074,750 Total Cost for 10 Years.

The estimated total Government cost in the first 10 years after publication is $1,074,750. The following table is a summary of the estimated costs calculated for a ten-year time horizon at a 3- and 7-percent discount rate:

Summary | Total costs
Present Value (3)% | $914,603
Present Value (7)% | 750,774

VII. Paperwork Reduction Act

The Paperwork Reduction Act does not apply because the changes to the FTR do not impose recordkeeping or information collection requirements, or the collection of information from offerors, contractors, or members of the public that require the approval of the Office of Management and Budget under 44 U.S.C. 3501, et seq.

List of Subjects in 41 CFR Part 302-4 and 302-9

Government employees, Travel, and transportation expenses.

Robin Carnahan,
Administrator, General Services Administration.

For the reasons set forth in the preamble, GSA amends 41 CFR parts 302-4 and 302-9 as set forth below:

PART 302-4 ALLOWANCES FOR SUBSISTENCE AND TRANSPORTATION

1. The authority citation for part 302-4 continues to read as follows:

Authority: 5 U.S.C. 5738; 20 U.S.C. 905(a); E.O. 11609, 36 FR 13747, 3 CFR, 1971-1975 Comp., p. 586.

2. Amend § 302-4.201 by revising the third sentence of the undesignated paragraph to read as follows:

§ 302-4.201 How are my authorized en route travel days and per diem determined for relocation travel?

* * * An exception to the daily minimum driving distance may be made when delay is beyond control of the employee, such as when it results from acts of God or restrictions by Governmental authorities; when the employee is an individual with a disability, as defined by Section 501 of the Rehabilitation Act of 1973 and its implementing regulations or has special needs; when the employee's alternative fuel POV cannot meet the daily minimum driving distance due to vehicle range capability and fueling availability limitations; or for other pre authorized exceptions.

3. Revise § 302-4.401 to read as follows:

§ 302-4.401 Are there exceptions to this daily minimum?

Yes, your agency may authorize exceptions to the daily minimum driving distance when there is a delay beyond your control such as acts of God, restrictions by Governmental authorities, or other acceptable reasons (e.g., the employee is an individual with a disability or has special needs; alternative fuel vehicle range capability and fueling availability limitations). Your agency must have a designated approving official to authorize the pre authorized exceptions.

4. Revise § 302-4.704 to read as follows:

§ 302-4.704 Must we require a minimum driving distance per day?

Yes, you must establish a minimum driving distance not less than an average of 300 miles per day. However, an exception to the daily minimum driving distance may be made when the delay is:

(a) Beyond control of the employee, e.g., results from acts of God or restrictions by Government authorities;

(b) Due to a disability or special need; or

(c) Due to vehicle range capability and fueling availability limitations of the employee's alternative fuel POV; or

(d) For other pre authorized exceptions.

PART 302-9—ALLOWANCES FOR TRANSPORTATION AND EMERGENCY OR TEMPORARY STORAGE OF A PRIVATELY OWNED VEHICLE

5. The authority citation for part 302-9 continues to read as follows:

Authority: 5 U.S.C. 5737a; 5 U.S.C. 5738; 20 U.S.C. 905(a); E.O. 11609, as amended, 3 CFR, 1971-1975 Comp., p. 586.

6. Amend § 302-9.4 by adding a sentence to the end of the undesignated paragraph to read as follows:

§ 302-9.4 What are the purposes of the allowance for transportation of a POV?

* * * For example, your agency may determine that it is both advantageous and cost effective to the Government to allow for transportation of an alternative fuel POV which would be impractical to drive a long distance to the new official station due to vehicle range capability and fueling availability limitations, but has practical use once at the new official station.

7. Revise § 302-9.301(e) to read as follows:

§ 302-9.301 Under what conditions may my agency authorize transportation of my POV within CONUS?

* * * * *

(e) The distance that the POV is to be shipped is 600 miles or more. An exception to the 600-mile or more distance requirement may be made for alternative fuel vehicle range capability and fueling availability limitations.

8. Revise § 302-9.606(f) to read as follows:

§ 302-9.606 What must we consider in determining whether transportation of a POV within CONUS is cost effective?

* * * * *

(f) The distance that the POV is to be shipped is 600 miles or more. An exception to the 600-mile distance requirement may be made for alternative fuel vehicle range capability and fueling availability limitations.

[FR Doc. 2024-06352 Filed 3-25-24; 8:45 am]

BILLING CODE 6820-14-P